DEPARTMENT OF AGRICULTURE

Food and Nutrition Service

Agency Information Collection Activities: Proposed Collection; Comment Request—Information Collection for the Special Milk Program for Children

AGENCY: Food and Nutrition Service, USDA.

ACTION: Notice.

SUMMARY: In accordance with the Paperwork Reduction Act of 1995, the Food and Nutrition Service announces its intention to request the Office of Management and Budget (OMB) to extend approval of the information collection for the Special Milk Program for Children.

DATES: To be assured of consideration, comments must be received by September 6, 2005.

ADDRESSES: Send comments and requests for copies of this information collection to Mr. Terry Hallberg, Chief, Program Analysis and Monitoring Branch, Child Nutrition Division, Food and Nutrition Service, USDA, 3101 Park Center Drive, Room 640, Alexandria, Virginia 22302. Comments will also be accepted via e-mail submission if sent to CNDPROPOSAL@FNS.USDA.GOV. When submitting comments via e-mail you must include “Special Milk Program for Children” on the subject line. Comments are invited on: (a) Whether the proposed collection of information is necessary for the proper performance of the functions of the agency, including whether the information will have practical utility; (b) the accuracy of the agency's estimate of the burden of the proposed collection of information, including the validity of the methodology and assumptions used; (c) ways to enhance quality, utility and clarity of the information to be collected; and (d) ways to minimize the burden of collection of information on those who are to respond, including through the use of appropriate automated, electronic, mechanical or other technological collection techniques or other forms of information technology. All responses to this notice will be summarized and included in the request for OMB approval, and will become a matter of public records.

FOR FURTHER INFORMATION CONTACT: Mr. Terry Hallberg Chief, Program Analysis and Monitoring Branch at (703) 305-2590.

SUPPLEMENTARY INFORMATION: Title: Special Milk Program.

OMB Numbers: 0584-0005.

Expiration Date: 1/31/06.

Type of Request: Extension of a currently approved collection.

Abstract: Section 3 of the Child Nutrition Act (CNA) of 1966 (Pub. L. 89-642, as amended; 42 U.S.C. 1772) authorizes the Special Milk Program (SMP). It provides for the appropriation of such sums as may be necessary to enable the Secretary of Agriculture, under such rules and regulations as the Secretary may deem in the public interest, to encourage the consumption of fluid milk by children in the United States in (A) nonprofit schools of high school grade and under, and (B) nonprofit nursery schools, child care centers, settlement houses, summer camps, and similar nonprofit institutions devoted to the care and training of children. Schools and institutions which participate in SMP may not participate in a meal service program authorized under the CNA or the Richard B. Russell National School Lunch Act.

Section 10 of the CNA requires the Secretary of Agriculture to “prescribe such regulations as the Secretary may deem necessary to carry out this Act and the Richard B. Russell National School Lunch Act * * *” Pursuant to that provision, the Secretary has issued 7 CFR part 215, which sets forth policies and procedures for the administration and operation of the SMP. State and local operators of the SMP are required to meet Federal reporting and accountability requirements. The vast majority of reporting relates to information regarding eligibility determinations of the children, the number of milk servings, and revenues received from milk sales. State and local operators are also required to maintain records regarding eligibility to operate the program, review results, and accounts of revenues and expenditures.

Authority: 42 U.S.C. 1772.

Respondents: 55 State agencies, 4,150 School food authorities/Sponsors, 5,667 schools, 593 child care institutions and 963 camps.

Number of Respondents: 11,428.

Estimated Total Annual Responses: 506,318.

Average Number of Responses per Respondent: 13.

Estimated Time per Response: .30.

Estimated Total Reporting Annual Burden Hours: 151,537.

Number of Respondents: 11,428.

Estimated Total Annual Responses: 2,443,768.

Average Number of Responses per Respondent: 36.

Estimated Time per Response: .17.

Estimated Total Annual Recordkeeping Burden Hours: 413,994.

Total Request Annual Reporting and Recordkeeping Burden Hours: 565,531.

Dated: June 15, 2005.
Roberto Salazar,
Administrator, Food and Nutrition Service.

[FR Doc. 05-13113 Filed 7-1-05; 8:45 am]

BILLING CODE 3410-30-P